DEPARTMENT OF TRANSPORTATION

National Highway Traffic Safety Administration

[Docket No. NHTSA-99-6324; Notice 2]

EMB Incorporated; Grant of Application for Temporary Exemption From Federal Motor Vehicle Safety Standards Nos. 108 and 120

This notice grants the application by EMB Incorporated (“EMB”) of Sebastopol, California, for a 2-year exemption from portions of Federal Motor Vehicle Safety Standard Nos. 108 Lamps, Reflective Devices and Associated Equipment, and 120 Tire Selection and Rims for Motor Vehicles Other Than Passenger Cars. The company does business as Electric Motorbike, Inc., and has petitioned on behalf of its Lectra VR24 motorcycle. In the opinion of the company, a temporary exemption “would make the development or field evaluation of a low-emission motor vehicle easier and would not unreasonably lower the safety level of that vehicle” (49 U.S.C. 30113(b)(3)(B)(iii)).

Notice of receipt of the petition was published on July 17, 2000, and an opportunity afforded for comment (65 FR 44092).

The discussion that follows is based on information contained in EMB's application.

Why EMB needs a temporary exemption. The company is developing zero-emission (electric battery-powered) vehicles. Due to a lack of readily-available components for these vehicles needed to comply with Federal Motor Vehicle Safety Standards Nos. 108 and 120, as explained below, EMB must petition for an exemption from portions of them, until July 1, 2002, as explained below.

EMB's arguments why an exemption would facilitate the development and field evaluation of a low-emission motor vehicle and would not unreasonably degrade the safety of that vehicle. In order to make the company's products available for wider use, EMB believes that a test and development period is necessary to optimize product features and functions. During the development stage, it is likely that several design changes will be made “to optimize the product for acceptance by the wider public.”

It is important to place a limited number of the product in service in order to gain insights into the features, functions and operating characteristics of the product.

In order to do so, the petitioner requested the following temporary exemptions:

1. Standard No. 108

EMB utilizes a 24-volt lighting system which presently creates an incompatibility with available lighting equipment, necessitating a temporary exemption from three requirements of Standard No. 108.

Table IV of Standard No. 108 requires motorcycle turn signal lamps to meet the applicable requirements of SAE Standard J588NOV8 Turn Signal Lamps. However, section 5.1.1.7 of Standard No. 108 provides that “a motorcycle turn signal lamp need meet only one-half of the minimum photometric values specified in Table 1 and Table 3” of SAE J588NOV84. EMB stated that “turn signals which operate at this voltage are difficult to locate.” However, it has found a supplier in Spain “which offers European-compliant turn signals for 24-volt operation.” The turn signal unit “meets European requirements 50R E9.” EMB believes that the European standard is equivalent to that of section 5.1.1.7, e.g., that an exemption would not unduly degrade the safety of the vehicle.

Table III of Standard No. 108 requires motorcycles to be equipped with turn signal lamps and a turn signal operating unit. Section 5.5.6 requires all vehicles equipped with a turn signal operating unit to have also an illuminated pilot indicator, which will inform the operator when one or more turn signal lamps fails to operate. However, no indication is required if a variable-load turn signal flasher has been installed on a motor vehicle type specified in section 5.5.6. A motorcycle is not one of the vehicle types specified, and the Lectra VR24 incorporates a variable load flasher. As noted above, the company uses a 24-volt DC power source for turn signal lamps. Outage indication is not presently available in 24 volt DC flasher units, therefore, the turn signal indicator on the dashboard will not indicate a failed lamp.

EMB argued that the open nature of the motorcycle makes it “easy for an operator to check for proper operation of all lights and signals * * .*”

EMB also sought exemption from certain portions of Section 7.9 which specifies headlighting requirements for motorcycles. In pertinent part, EMB wishes to meet the photometric specifications of Figure 32. At the present time, motorcycle headlamps are not available in 24-volt versions, and the company has chosen “a military vehicle headlamp” manufactured by “Wagner Corporation.” This headlamp “does meet requirements for passenger car headlighting systems.” The upper beam of the headlamp meets all requirements for motorcycle headlamp upper beams, and complies with all lower beam test points as well, with the exception of Test Point 2D-3L, where there is a shortfall of 7 percent.

EMB argued that the shortfall does not unreasonably degrade safety because the Lectra VR24 is designed for a cruising speed of 30 mph and the headlamp does meet requirements for this equipment on motor driven cycles.

Finally, the lens of the headlamp will not be marked “motorcycle” as required by Section 7.9.5 for a headlamp of the type intended to be used.

During the exemption period, EMB plans to develop a lighting system that fully complies with Standard No. 108.

2. Standard No. 120

Section 5.2 Rim marking of Standard No. 120 requires, in pertinent part, that each rim be embossed or debossed with certain specified information. The wheel that EMB has selected was not embossed with the information at time of manufacture but has been subsequently stamped with indelible ink. All the information is present and in the required location. These wheels meet ISO 8644, ISO 8645, and TUV specifications. EMB will work with suppliers to ensure that future rims are properly marked.

EMB's arguments why an exemption would be consistent with the public interest and objectives of motor vehicle safety. EMB “is developing zero-emission vehicles which are consistent with the goals and desires of society for a cleaner and quieter environment, and reduced reliance on fossil fuels.”

Even with the exemptions requested, EMB argued that the Lectra VR24 exhibits an overall level of safety equivalent to that prescribed by the Federal motor vehicle safety standards.

Agency Response and Decision

We received no public comments on the application.

EMB is eligible for a temporary exemption on the basis on which it has applied because it intends to produce a zero-emission vehicle. The manufacture of zero-emission vehicles is in the public interest, not only for California where EMB is located but also for the rest of the country as well.

In order to grant EMB's application, we must also make findings that an exemption would not unreasonably lower the safety of the Lectra VR24 motorcycle, and that an exemption would be consistent with the objectives of traffic safety.

Unlike other motorcycles, EMB has designed the Lectra VS24 with a 24-volt lighting system. The company does not know whether the turn signal system will comply with the optional performance allowed by Section 5.1.1.7, but has found that the unit will meet an applicable European requirement, which it believes is equivalent to the performance allowed by Section 5.1.1.7. Does NHTSA, as opposed to the petitioner, believe that it is equivalent, and if so, on what objective basis do we form that belief? Pls look at Appendix B of 553. It addresses how the agency makes equivalency determinations. Pls note that it requires a degree of rigor in making such determinations. It would seem, therefore, that the Lectra VS24 will have the equivalent of a complying turn signal system, and, if it does not, that it will be sufficiently close to the requirements of Standard No. 108 that the level of safety would not be “unreasonably” lower. On what objective basis do we conclude that it will be sufficiently close?

Standard No. 108 does not require that a turn signal pilot indicator be provided on vehicles other than motorcycles when the flasher is a variable-load type. The Lectra VS24 uses a variable load turn signal flasher, and no indicator has been provided. It argued that the open nature of the motorcycle makes it easy for an operator to check the proper operation of the signals. Variable load flashers are intended to accommodate vehicles larger than motorcycles that haul other vehicles on which turn signal systems are installed. Motorcycles were omitted from the exclusion, not for safety reasons, but because there was no reason to include them. We agree with EMB that an operator will have an actual visual indication if the Lectra VS24's system is not working. We find no safety impact under these circumstances.

The headlamp EMB has chosen is one for military vehicles. It fails to meet one photometric test point, with a shortfall of 7 percent. In addition, the lens is not marked “motorcycle.” EMB argues that this does not unreasonably degrade safety because the Lectra VS24 is designed for a cruising speed of 30 mph and its headlamp will meet the requirement for headlamps on motor driven cycles.

We do not find this argument appropriate. The exceptions that Standard No. 108 makes for lighting equipment on motor driven cycles with a maximum speed of 30 mph are only for turn signals and stop lamps (see section 5.1.1.21 and section 5.1.1.22). While a shortfall of 7 per cent is a failure, it occurs at only one test point on the lower beam. Even if this is assumed to represent a lowering of the safety of the vehicle, the effect would be minimal and not “unreasonable.” The presence of the word “motorcycle” on the headlamp lens is intended to advise prospective purchasers of replacement headlamps that the headlamp has not been designed for use on vehicles other than motorcycles. Since the petition has not been filed by the manufacturer of the headlamp and does not relate to the aftermarket, the noncompliance is of a technical nature only.

With respect to Standard No. 120, the required rim markings are present, but they have been stamped in indelible ink rather than being embossed or debossed. While the intent of the standard is to provide permanent marking for the rims, stamping in indelible ink ought to be an acceptable equivalent. Does that mean we would grant an inconsequentiality request for rims marked with ink instead of embossed or debossed? We note that future rims will be properly marked.

The exemptions from these requirements are minor, and hence, compatible with the safety mission of the agency.

On the basis of the foregoing, we find that a temporary exemption would make the development and field evaluation of a low-emission motor vehicle easier and would not unreasonably lower the safety level of that vehicle. We also find that a temporary exemption would be in the public interest and consistent with the objectives of motor vehicle safety. Accordingly, EMB Incorporated is granted NHTSA Temporary Exemption No. EX2000-4 from section 5.1.1.7 and section 7.9 of 49 CFR 571.108 Standard No. 108, Lamps, Reflective Devices and Associated Equipment, and from that portion of section 5.2 of 49 CFR 571.120 Standard No. 120, Tire Selection and Rims for Motor Vehicles Other Than Passenger Cars which requires marking “in lettering not less than 3 millimeters high, impressed to a depth or, at the option of the manufacturer, embossed to e height of not less than 0.125 millimeters.” The exemption shall expire July 1, 2002.

Authority: 49 U.S.C. 30113; delegations of authority at 49 CFR 1.50 and 501.4.

Issued on: January 11, 2001.
Rosalyn G. Millman,
Deputy Administrator.

[FR Doc. 01-1526 Filed 1-17-01; 8:45 am]

BILLING CODE 4910-59-U